OFFICE OF PERSONNEL MANAGEMENT

Civilian Acquisition Workforce Personnel Demonstration Project; Department of Defense

AGENCY: Office of Personnel Management.

ACTION: Notice of amendment to this demonstration in order to list all organizations that are eligible to participate in the project and make the resulting adjustments to the table that describes the project's workforce demographics and union representation.

SUMMARY: The Department of Defense (DoD), with the approval of the Office of Personnel Management (OPM), may conduct a personnel demonstration project within DoD's civilian acquisition workforce and those supporting personnel assigned to work directly with it. (See Section 4308 of the National Defense Authorization Act for Fiscal Year 1996 (Pub. L. 104-106; 10 U.S.C.A. § 1701 note), as amended by section 845 of the National Defense Authorization Act for Fiscal Year 1998 (Pub. L. 105-85)). This notice amends the project plan for this demonstration to list as eligible to participate (1) all organizations composed of civilian acquisition workforce members, that is, personnel in acquisition positions designated pursuant to 10 U.S.C. 1721 and (2) all organizations with teams of personnel in which more than half the team consists of members of the acquisition workforce and the remainder consists of supporting personnel assigned to work directly with the acquisition workforce. The notice also makes the resulting adjustments to the table that describes the project's demographics and union representation.

DATES: This amendment is effective July 1, 2002.

FOR FURTHER INFORMATION CONTACT: DoD: Anthony D. Echols, Civilian Acquisition Workforce Personnel Demonstration Project, 2001 North Beauregard Street, Suite 750, Alexandria, VA 22311, 703-681-3553. OPM: Mary Lamary, U.S. Office of Personnel Management, 1900 E Street NW., Room 7460, Washington, DC 20415, 202-606-2820.

SUPPLEMENTARY INFORMATION:

1. Background

OPM approved and published the project plan for the Civilian Acquisition Workforce Personnel Demonstration Project in the Federal Register on January 8, 1999 (Volume 64, Number 5, part VII). An amendment was published in the May 21, 2001, Federal Register, Volume 66, Number 98, to (1) correct discrepancies in the list of occupational series included in the project and (2) authorize managers to offer a buy-in to Federal employees entering the project after initial implementation. A second amendment was published in the April 24, 2002, Federal Register, Volume 67, Number 79 to (1) make employees in the top broadband level of their career path eligible to receive a “very high” overall contribution score (OCS) and (2) reduce the minimum rating period under the Contribution-based Compensation and Appraisal System (CCAS) to 90 consecutive calendar days. This demonstration project involves hiring and appointment authorities; broadbanding; simplified classification; a contribution-based compensation and appraisal system; revised reduction-in-force procedures; academic degree and certificate training; and sabbaticals.

2. Overview

This amendment will reduce the need for future Federal Register amendments regarding project coverage by listing all organizations that are eligible to participate in this demonstration. Further, this amendment makes the resulting adjustments to the project's demographics and union representation.

Dated: June 26, 2002.
Office of Personnel Management.
Kay Coles James,
Director.

I. Executive Summary

The project was designed by a Process Action Team (PAT) under the authority of the Under Secretary of Defense for Acquisition and Technology, with the participation of and review by DoD and OPM. The purpose of the project is to enhance the quality, professionalism, and management of the DoD acquisition workforce through improvements in the human resources management system.

II. Introduction

This demonstration project provides managers, at the lowest practical level, the authority, control, and flexibility they need to achieve quality acquisition processes and quality products. This project not only provides a system that retains, recognizes, and rewards employees for their contribution, but also supports their personal and professional growth.

A. Purpose

The purpose of this notice is to list all organizations that are eligible to participate in the Civilian Acquisition Workforce Personnel Demonstration Project. A comprehensive table will reduce the need for future Federal Register amendments. Other provisions of the approved plan are unchanged. Pursuant to 5 CFR 470.315, changes are hereby made to the Federal Register, Civilian Acquisition Workforce Personnel Demonstration Project; Department of Defense; Notice, Friday, January 8, 1999, Volume 64, Number 5, Part VII, pages 1432-7 and 1447.

B. Employee Notification and Collective Bargaining Requirements

The demonstration project program office shall notify employees of this amendment by posting it on demonstration's web site (http://www.acq.osd.mil/acqdemo/new_site). As stated in the existing demonstration project plan, “Employees within a unit to which a labor organization is accorded exclusive recognition under Chapter 71 of title 5, United States Code, shall not be included as part of the demonstration project unless the exclusive representative and the agency have entered into a written agreement covering participation in and implementation of the project” (Ibid., p. 1432, section II. D., first paragraph).

III. Personnel System Changes

1. Section II. E. Delete all of Section II. E. and replace it with the following:

E. Eligible Organizations

The DoD Civilian Acquisition Workforce Personnel Demonstration Project may include various organizational elements of the Departments of the Army, Navy, and Air Force, and the Office of the Secretary of Defense (Office of the Under Secretary of Defense for Acquisition, Technology, and Logistics). Eligible organizations are shown in Table 1.

Table 1.—Eligible Organizations
DoD component/DoD component major organizational subdivision | Organization/office symbol | Locations
DEPARTMENT OF THE AIR FORCE
Air Force Materiel Command (AFMC) | Aeronautical System Center (ASC) | Wright-Patterson AFB, OH and all other locations.
AFMC | Air Armament Center (AAC)(except comparison group at Eglin AFB, FL) | Eglin AFB, FL and all other locations.
AFMC | Air Force Flight Test Center (AFFTC) | Edwards AFB, CA and all other locations.
AFMC | Arnold Engineering Development Center (AEDC) | Arnold AFB, TN and all other locations.
AFMC | Electronic Systems Center (ESC) | Hanscom AFB, MA and all other locations.
AFMC | HQ AFMC | Wright-Patterson AFB, OH and all other locations.
AFMC | Ogden Air Logistics Center (OO-ALC) | Hill AFB, UT and all other locations.
AFMC | Oklahoma City Air Logistics Center (OC-ALC) | Tinker AFB, OK and all other locations.
AFMC | Warner Robins Air Logistics Center (WR-ALC) | Warner Robins AFB, GA and all other locations.
Air Force Space Command (AFSPC) | HQ AFSPC | Peterson AFB, CO and all other locations.
AFSPC | Space and Missile Center (SMC) | Los Angeles, CA and all other locations.
Miscellaneous Air Force | Contracting Organizations | All locations in the National Capital Region.
Secretary of the Air Force | Assistant Secretary of the Air Force (Acquisition) (SAF/AQ) and Space Acquisition Organization | Pentagon, Arlington, VA and all other locations.
DEPARTMENT OF THE ARMY
Army Acquisition Executive Support Agency (AAESA) | Headquarters, Research, Development, and Acquisition Information Systems Activity (RDAISA); Army Digitization Office (ADO); Acquisition Career Management Office; Contract Support Agency (CSA); Joint Simulations (JSIMS); Leavenworth Support; Management Support Pentagon Support; Training Group | Orlando, FL; Alexandria, VA; Ft. Belvoir, VA; Falls Church, VA; Pentagon, Arlington, VA; Radford, VA; and all other locations.
AAESA | Program Executive Office (PEO) Air and Missile Defense (See Note 1) | Huntsville, AL; Pentagon, Arlington, VA; and all other locations.
AAESA | Program Executive Office Ammo (See Note 1) | All locations.
AAESA | Program Executive Office Aviation (AVN) (See Note 1) | Huntsville, AL; Pentagon, Arlington, VA; and all other locations.
AAESA | Program Executive Office Chemical/Biological Defense (See Note 1) | All locations.
AAESA | Program Executive Office Command, Control, and Communication Systems (C3S) | Huntsville, AL; El Segundo, CA; Tallahassee, FL; Ft. Wayne, IN; Ft. Leavenworth, KS; Seoul, Korea; Yong San, Korea; Ft. Monmouth, NJ; White Sands Missile Range, NM; Ft. Sill, OK; Ft. Hood, TX; Ft. Bliss, TX: Ft. Belvoir, VA; McLean, VA; Pentagon, Arlington, VA; and all other locations.
AAESA | Program Executive Office CS/CSS (See Note 1) | All locations.
AAESA | Program Executive Office Ground Combat Support Systems (GCSS) (See Note 1) | Picatinny Arsenal, NJ; Warren, MI; Pentagon, Arlington, VA; Washington, DC; and all other locations.
AAESA | Program Executive Officer Intelligence, Electronic Warfare, and Sensors (IEW&S) (See Notes 1 and 2) | Ft. Monmouth, NJ; Ft. Belvoir, VA; and all other locations.
AAESA | Program Executive Office/Program Management (PM) Joint Simulation System (See Note 1) | Orlando, FL; and all other locations.
AAESA | Program Executive Office National Missile Defense Joint Program Office (See Note 1) | All locations.
AAESA | Program Executive Office Soldier (See Note 1) | All locations.
AAESA | Program Executive Office Standard Army Management Information Systems (STAMIS) (See Note 1) | Ft. Knox, KY; Ft. Monmouth, NJ; Ft. Belvoir, VA; Ft. Lee, VA; Ft. Monroe, VA; and all other locations.
AAESA | Program Executive Officer Tactical Missiles (See Note 1) | Huntsville, AL; Pentagon, Arlington, VA; Washington, DC; and all other locations.
AAESA | Program Management (PM) Chemical Demilitarization | Aberdeen Proving Ground, MD; Pentagon, Arlington, VA; Washington, DC; and all locations.
AAESA | Program Management (PM) Joint Program for Biological Defense | Aberdeen Proving Ground, MD; Ft. Detrick, MD; Ft. Ritchie, MD; Falls Church, VA; and all locations.
Army Materiel Command (AMC) | Headquarters—Acquisition | Alexandra, VA and all locations.
AMC | AMC Headquarters Staff Support Activities | Nahbohnch, Germany; Rock Island, IL; Yong San, Korea; Aberdeen Proving Ground, MD; Alexandria, VA; and all other locations.
AMC | Installations and Services Activity; Intelligence and Technology Security Activity; International Cooperative Program Activity; Logistics Support Activity; Schools of Engineering and Logistics; Separate Reporting Activities: Field Assistance in Science and Technology; Surety Field Activity; Systems Analysis Activity (See Note 2) | All locations.
AMC | Aviation and Missile Command (AMCOM) (See Note 3) | All locations.
AMC | Communications-Electronics Command (CECOM) (See Note 3) | All locations.
AMC | Operations Support Command (See Note 3) | All locations.
AMC | Security Assistance Command (See Note 2) | All locations
AMC | Simulation, Training, and Instrumentation Command (STRICOM) (See Note 3) | All locations.
AMC | Soldier and Biological Chemical Command (SBCCOM) (See Note 3) All locations.
AMC | Tank-Automotive and Armaments Command (TACOM) (See Note 3) | All locations.
Headquarters, Department of the Army (HQDA) | Office of the Auditor General; Office Surgeon General; G1; G2; G3; G4; G6; G8 | Pentagon, Arlington, VA.
HQDA | Army Contracting Agency | All locations.
Office of the Assistant Secretary of the Army (Financial Management and Comptroller) | Cost and Economic Analysis Center; SAFM-BUI | Falls Church, VA; Pentagon, Arlington, VA; and all other locations.
Office of the Assistant Secretary of the Army (Acquisition, Logistics, and Technology) | Director of Assessment and Evaluation (SARD-ZD); Deputy Assistant Secretary of the Army for Logistics (SARD-ZL); Deputy Assistant Secretary for Plans/Programs/Policy (SARD-ZR); Deputy Assistant Secretary of the Army for Procurement (SARD-ZP); Deputy Assistant Secretary for Research and Technology (SARD-ZT); Deputy for Systems Management (SARD-ZS); Management Support; SACO and associated offices | Ft. Belvoir, VA; Falls Church, VA; Pentagon, Arlington, VA; Radford, VA; and all other locations.
Medical Command (MEDCOM) | Healthcare Acquisition Activity, MEDCOM Acquisition Activity | Augusta, GA; Honolulu, HI; El Paso, TX; San Antonio, TX; Seattle, WA; Walter Reed Army Medical Center, Washington, DC; Landstuhl, Germany.
MEDCOM | Medical Research and Materiel Command (MRMC) (See Note 3) | Ft. Rucker, AL; Natick, MA; Aberdeen Proving Ground, MD; Ft. Detrick, MD; Washington, DC.
MEDCOM | Medical Department Activity | Ft. Greeley, AK; Ft. Richardson, AK; Ft. Wainwright, AK; Ft. Huachuca, AZ; Ft. Carson, CO; Heidelberg, Germany; Ft. Campbell, KY; West Point, NY; Ft. Jackson, SC; Ft. Hood, TX.
MEDCOM | Army Medical Centers | Honolulu, HI; Ft. Bragg, NC; San Antonio, TX; Tacoma, WA; Washington, DC.
MEDCOM | Center for Health Promotion and Preventive Medicine | Aberdeen Proving Ground, MD.
US Army Eighth Army (EUSA) | Contracting Command Korea/EAKC | Seoul, Korea and all other locations.
EUSA | Troop Command | Seoul, Korea and all other locations.
US Army Test and Evaluation Command (ATEC) | HQ, ATEC | Alexandria, VA.
ATEC | Operational Test Command (OTC) | Ft. Hood, TX and all other locations.
ATEC | Army Evaluation Center (AEC) | Alexandria, VA and all other locations.
ATEC | Developmental Test Command (DTC) | Aberdeen Proving Ground, MD and all other locations.
Headquarters, Department of the Army (HQDA) | Defense Supply Services Washington (DSSW)/Joint-DSSW | Alexandria, VA; Ft. Belvoir, VA; Falls Church, VA; Washington, DC.
National Guard Bureau (NGB) (See Note 4) | Program Executive Office/Program Management RCAS, NGB-RCS-RA | Arlington, VA.
Joint Activities | Information Management Support Center | Pentagon, Arlington, VA and all other locations.
Military Traffic Management Command (MTMC) | HQ, MTMC | Alexandria, VA.
MTMC | MTAQ | Falls Church, VA and all other locations.
MTMC | PM Global Freight Management System | Alexandria, VA.
MTMC | 598th Transportation Terminal Group; 599th Transportation Terminal Group; 836th Transportation Terminal Group Deployment Support Command | Yokohama, Japan; Rotterdam, Netherlands; Oahu, HI; Fort Eustis, VA; and all other locations.
Space and Missile Defense Command (SMDC) | SMDC (See Note 1) | Huntsville, AL; Kwajalein Atoll, Marshall Islands; Colorado Springs, CO; White Sands Missile Range, NM; Arlington, VA; Fairfax, VA; all other locations.
Training and Doctrine Command (TRADOC) | Headquarters, TRADOC Acquisition Directorate and Small and Disadvantaged Business Utilization Office | Ft. Monroe, VA.
TRADOC | Directorate of Contracting and TRADOC Contracting Activity | Ft. Eustis, VA.
TRADOC | Directorate of Contracting and Mission Contracting Activity | Ft. Leavenworth, KS.
TRADOC | Directorate of Contracting and Mission Contracting Activity | Ft. Lee, VA.
TRADOC | Directorates of Contracting | McClellan, AL; Rucker, AL; Ft. Huachuca, AZ; Presidio at Monterey, CA; Ft. Benning, GA; Ft. Gordon, GA; Ft. Knox, KY; Ft. Leonard Wood, MO; Ft. Sill, OK; Carlisle Barracks, PA; Ft. Jackson, SC; Ft. Bliss, TX; Ft. Lee, VA.
Corps of Engineers (COE) | Headquarters | Washington, DC.
COE | Regional Headquarters | All locations.
COE | Division, Directorates of Contracting | All locations.
COE | District Contracting Offices | All locations.
COE | Transatlantic Programs Center, Directorate of Contracting | All locations.
COE | Humphreys Engineering Center Support Activity, Contracting Office | All locations.
COE | Marine Design Center | All locations.
Intelligence and Security Command | 704 Military Brigade, Headquarters and Headquarters Company; 718th Military Group; HQ, U.S. Army (USA) Intelligence Security Command; USA Element National Security Agency (NSA); USA Foreign Counter Intelligence (CI) Activity; USA Land Information Warfare; USA National Ground Intelligence Center (See Note 2) | All locations.
Criminal Investigation Command | Headquarters | Ft. Belvoir, VA and all other locations.
U.S. Army Europe and 7th Army (USAREUR) | Wiesbaden Contracting Center | Wiesbaden, Germany.
USAREUR | USA Contracting Command Europe | Brussels, Belgium; Bad Kreuznach, Germany; Grafenwohr, Germany; Seckenheim, Germany; Wiesbaden, Germany; Wuerzburg, Germany; Vicenza, Italy; and all other locations.
USAREUR | USA Transportation Management Center | Grafenwoehr, Germany.
USAREUR | Southern European Task Force | Vicenza, Italy.
USAREUR | 21st Theater Army Area Command | Kaiserslautern, Germany.
USAREUR | V Corps | Heidelberg, Germany.
USAREUR | 7th Army Training Command | Grafenwoehr, Germany.
USAREUR | 26th Support Group | Heidelberg, Germany.
Forces Command (FORSCOM) | U.S. Army Garrisons (USAGs) | Ft. Carson, CO; Ft. McPherson, GA; Ft. Stewart, GA; Ft. Riley, KS; Ft. Campbell, KY; Ft. Polk, LA; Ft. Bragg, NC; Ft. Hood, TX; Ft. Dix, NJ; Ft. Drum, NY; Ft. Lewis, WA; Ft. McCoy, WI.
FORSCOM | Reserve Command | All locations.
FORSCOM | Signal Command | Ft. Huachuca, Arizona and all other locations.
FORSCOM | First Army; Third Army; Fifth Army | All locations.
US Military Academy | West Point (See Note 5) | West Point, NY.
Military District of Washington | 3rd U.S. Infantry; 12th Aviation Battalion; Army Signal Activity; Arlington National Cemetery; Joint Personal Property Shipping Office; U.S. Army Band; White House Transportation Agency | All locations.
U.S. Army National Guard Bureau (ANGB) | USPFO Activity (See Note 3) | All locations.
ANGB | State Area Command (See Note 3) | All locations.
Southern Command | U.S. Army Element, Headquarters Southern Command | Miami, FL and all other locations.
Recruiting Command | USA Recruiting Support Battalions | Fort Knox, KY and all other locations.
Military Entrance Processing Command (MEPCOM) | Headquarters, USA, MEPCOM | North Chicago, IL.
Total Army Personnel Command | Information System Agency, Army Reserve Personnel Center | St. Louis, MO.
U.S. Army Pacific (USARPAC) | HQ, USARPAC; and subordinate command/installations | All locations.
Office of the Secretary of the Army | Immediate Office of the Secretary of the Army | Pentagon, Arlington, VA and all other locations.
Office of the Secretary of the Army | Office of the Administrative Assistant to the Secretary of the Army | Pentagon, Arlington, VA and all other locations.
Office of the Secretary of the Army | Office of the Chief of Legislative Liaison | Pentagon, Arlington, VA and all other locations.
Office of the Secretary of the Army | Office of Small and Disadvantaged Business Utilization | Pentagon, Arlington, VA and all other locations.
Office of the Secretary of the Army | Office of Director, Information Systems for Command Control, Communications, and Computers | Pentagon, Arlington, VA and all other locations.
Field Operating Offices of the Office of the Secretary of the Army | Army Broadcasting Service | Alexandria, VA.
Field Operating Offices, Office of the Secretary of the Army | Cost and Economic Analysis Agency | Arlington, VA and all other locations.
Field Operating Offices, Office of the Secretary of the Army | Army Safety Center | Ft. Rucker, AL and all other locations.
Field Operating Offices, Office of the Secretary of the Army | USA War College (See Note 5) | Carlisle Barracks, PA and all other locations.
Field Operating Offices, Office of the Secretary of the Army | Communication Electronic Service Office | Alexandria, VA and all other locations.
Special Operations Command | Office of the Acquisition Executive and all associated PEOs and PMs | All locations.
Joint Activities | Army Visual Information Center | Pentagon, Arlington, VA and all other locations.
Joint Activities | Defense Acquisition University (DUA) (See Note 5) | Ft. Belvoir, VA.
DEPARTMENT OF THE NAVY
Navy
Assistant Secretary of the Navy (Research, Development, and Acquisition) | (ASN(RD&A)) | Arlington, VA.
Navy International Program Office (NIPO) | NIPO | Arlington, VA.
Naval Supply Systems Command (NAVSUP) | Fleet and Industrial Supply Center, Puget Sound | Bremerton, WA.
NAVSUP | Fleet and Industrial Supply Center | San Diego, CA.
Naval Seal Systems Command (NAVSEA) | TEAM CX (Surface Ship Directorate (SEA 91), Program Executive Office Aircraft Carriers, and Program Executive Office Expeditionary Warfare) | Arlington, VA.
Marine Corps
Marine Corps Systems Command (MARCORSYSCOM) | Amphibious Vehicle Test Bed (AVTB); Marine Corps Tactical Systems Support Activity (MCTSSA) | Camp Pendleton, CA.
MARCORSYSCOM | Headquarters, Marine Corps Systems Command (MARCORSYSCOM); CSLE; Program Support Section | Albany, GA; Rock Island, IL; Picatinny Arsenal, NJ; Warren, MI; Quantico, VA.
DEPARTMENT OF DEFENSE
Office of the Secretary of Defense Office of the Under Secretary of Defense for Acquisition, Logistics, and Technology (USD(AT&L)) | ATSD (NCB); DIR, Admin; DIR, API; DDR&E; DIR, DP; DSB; DUSD (ES); DUSD (AR); DUSD (AT); DUSD (IA&I); DUSD (I&CP); DUSD (L); DIR, S&TS; DIR, TSE&E; Spec Prog; SADBU | Pentagon, Arlington, VA.
Defense Advanced Research Projects Agency (DARPA) | All (See Note 5) | Arlington, VA.
Defense Logistics Agency | All | All locations.
Missile Defense Agency | All | Arlington, VA.
Defense Contract Management Agency (DCMA) | All | All locations.
Defense Threat Reduction Agency (DTRA) | All | Arlington, VA; Ft. Belvoir, VA.
Defense Information Systems Agency | PM DISN System Integration Project | Falls Church, VA.

Note 1: Includes all associated PMs and liaison representatives.

Note 2: Excludes Defense Civilian Intelligence Personnel System positions.

Note 3: Excludes positions covered by another demonstration project that is operating or under development within DoD.

Note 4: Only title 5 National Guard Bureau positions are eligible to be included in this demonstration.

Note 5: Excludes Administratively Determined pay plan employees.

2. Section II F.: Delete the entire first paragraph of Section II. F. and replace it with the following two paragraphs:

In determining the scope of the demonstration project, primary consideration was given to the number and diversity of occupations within (1) the DoD acquisition workforce and (2) the teams of personnel, more than half of which consist of members of the acquisition workforce and the remainder of supporting personnel assigned to work directly with the acquisition workforce. This can include positions in the following fields, as well as any other position or group of positions in acquisition-related fields or that perform acquisition-related duties: program management; systems planning, research, development, engineering, and testing; procurement, including contracting; industrial property management; logistics; quality control and assurance; manufacturing and production; business, cost estimating, financial management, and auditing; education, training, and career development; construction; and joint development and production with other Government agencies and foreign governments.

Additionally, in determining the scope of the demonstration project, current DoD human resources management design goals and priorities for the entire civilian workforce were considered. While the intent of this project is to provide DoD activities with increased control and accountability for their covered workforce, the decision was made to restrict development efforts initially to covered General Schedule (GS) positions. Employees covered under the Performance Management and Recognition System Termination Act (pay plan code GM) are General Schedule employees and are covered under the demonstration project.

3. Replace current Table 3 and the first sentence of the final paragraph of Section II. F. with the following:

Table 3.—DoD Acquisition Workforce Demographics and Union Representation
Career Paths:
Business Management & Technical Management Professional | 95,821
Technical Management Support | 1,084
Administrative Support | 3,389
Total | *100,294
DoD Components:
DoD Agencies | 23,574
Air Force | 16,969
Army | 33,180
Navy | 25,823
Marine Corps | 748
Total | *100,294
Occupational Families 22
Percentage of Veterans 26.9%
Union Affiliation 54,944
* These figures are as of February 25, 2002.

Although more than 100,000 employees have been identified for eligibility to participate in this demonstration project, the project is limited by statute to a maximum of 95,000 participants at any given time. Of the approximately 100,000 personnel currently eligible to participate in the project, 55 percent are represented by labor unions. The American Federation of Government Employees (AFGE), the National Federation of Federal Employees (NFFE), and the National Association of Government Employees (NAGE) represent the vast majority of bargaining unit employees.

[FR Doc. 02-16603 Filed 6-27-02; 12:18 pm]

BILLING CODE 6325-43-P